ELECTION ASSISTANCE COMMISSION

Request for Comment: U.S. Elections Survey—Election Office Staffing

AGENCY: Election Assistance Commission.

ACTION: Notice, request for comment.

SUMMARY: As part of its continuing effort to reduce paperwork burdens, and as required by the Paperwork Reduction Act of 1995 (PRA), the EAC announces an information collection and seeks public comment on the provisions thereof. The EAC intends to submit this proposed information collection (U.S. Elections Survey—Election Office Staffing) to the Director of the Office of Management and Budget for approval. The U.S. Elections Survey (USES)—Election Office Staffing asks election offices to gather information on their staffing and operational structure. The survey includes questions regarding staff composition, hiring capabilities, and perceived staffing needs.

DATES: Comments must be received by 5 p.m. Eastern on Friday, August 19, 2025.

ADDRESSES: Comments on the proposed information collection should be submitted electronically via https://www.regulations.gov (docket ID: EAC-2025-0009). Written comments on the proposed information collection can also be sent to the U.S. Election Assistance Commission, 633 3rd Street NW, Suite 200, Washington, DC 20001, Attn: U.S. Elections Survey—Election Office Staffing. To obtain a free copy of the draft survey instrument: (1) Download a copy at https://www.regulations.gov (docket ID: EAC-2025-0009); or (2) write to the EAC (including your address and phone number) at U.S. Election Assistance Commission, 633 3rd Street NW, Suite 200, Washington, DC 20001, Attn: U.S. Elections Survey—Election Office Staffing.

FOR FURTHER INFORMATION CONTACT: Raymond Williams at 202-924-0794, or email research@eac.gov; U.S. Election Assistance Commission, 633 3rd Street NW, Suite 200, Washington, DC 20001.

SUPPLEMENTARY INFORMATION:

Title and OMB Number: U.S. Elections Survey—Election Office Staffing; OMB Number Pending.

Purpose: Under the PRA (44 U.S.C. 3501-3520), Federal Agencies must obtain approval from the Office of Management and Budget (OMB) for each collection of information they conduct or sponsor. “Collection of information” is defined in 44 U.S.C. 3502(3) and 5 CFR 1320.3(c) and includes Agency requests or requirements that members of the public submit reports, keep records, or provide information to a third party. Section 3506(c)(2)(A) of the PRA requires Federal agencies to provide a 60-day notice in the Federal Register concerning each proposed collection of information, including each proposed extension of an existing collection of information, before submitting the collection to OMB for approval. To comply with this requirement, the EAC is publishing notice of the proposed collection of information set forth in this document.

Background: The EAC issues the U.S. Elections Survey—Election Office Staffing to meet its obligations under the Help America Vote Act of 2002 (HAVA) to serve as a national clearinghouse and resource for the compilation of information with respect to the administration of Federal elections. Section 241 of HAVA gives the EAC authority to periodically conduct studies on election administration issues.

Public Comments: Public comments are invited on:

• Whether the proposed collection of information is necessary for the proper performance of the functions of the agency, including whether the information shall have practical utility;

• The accuracy of the agency's estimate of the burden of the proposed information collection;

• Ways to enhance the quality, utility, and clarity of the information to be collected; and

• Ways to minimize the burden of the information collection on respondents, including through the use of automated collection techniques or other forms of information technology.

Please note that comments submitted in response to this Notice are public record. Before including any detailed personal information, you should be aware that your submitted comments, including your personal information, will be available for public review.

Affected Public (Respondents): State or local governments, the District of Columbia, American Samoa, Guam, the Northern Mariana Islands, Puerto Rico, and the U.S. Virgin Islands.

Affected Public: State or local government.

Number of Respondents: 56.

Responses per Respondent: 1.

Estimated Burden per Response: 2 hours annualized.

Estimated Total Annual Burden Hours: 112 hours annualized.

Frequency: Annual.

Seton Parsons,
Associate Counsel, U.S. Election Assistance Commission.

[FR Doc. 2025-11087 Filed 6-16-25; 8:45 am]

BILLING CODE 4810-71-P